DEPARTMENT OF THE INTERIOR

National Park Service

[NPS-WASO-NAGPRA-NPS0023997; PPWOCRADN0-PCU00RP14.R50000]

Notice of Inventory Completion: U.S. Department of Agriculture, Forest Service, Rogue River-Siskiyou National Forest, Medford, OR

AGENCY: National Park Service, Interior.

ACTION: Notice.

SUMMARY: The U.S. Department of Agriculture (USDA), Forest Service, Rogue River-Siskiyou National Forest, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Rogue River-Siskiyou National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Rogue River-Siskiyou National Forest, at the address in this notice by October 23, 2017.

ADDRESSES: Robert MacWhorter, Forest Supervisor, Rogue River-Siskiyou National Forest, 3040 Biddle Road, Medford, OR 97501, telephone (541) 618-2030, email rmacwhorter@fs.fed.us.

SUPPLEMENTARY INFORMATION: Notice is here given in accordance with the Native American Graves Protection and Repatriation Act (NAGPRA), 25 U.S.C. 3003, of the completion of an inventory of human remains that are housed at the Southern Oregon University Laboratory of Anthropology and under the control of the USDA, Forest Service, Rogue River-Siskiyou National Forest. The human remains were removed from the Siskiyou Mountains Ranger District of the Rogue River-Siskiyou National Forest, Jackson County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

Based on the likely cultural affiliation of the human remains and the aboriginally occupied lands of the Tribes, the Rogue River-Siskiyou National Forest consulted with the Confederated Tribes of Siletz Indians of Oregon (previously listed as the Confederated Tribes of the Siletz Reservation); Confederated Tribes of the Grand Ronde Community of Oregon; and Quartz Valley Indian Community of the Quartz Valley Indian Reservation of California. Formal consultation regarding the human remains began in 1995 and continued through 2007.

History and Description of the Remains

In 1971, and at some time between 1975 and 1979, human remains representing, at minimum, three individuals were removed from site 35JA90 in Jackson County, OR. The site is located on Federal land within the Siskiyou Mountains Ranger District. The Jackson County Sheriff's Department was notified of the discovery and removed the human remains for further examination. After examination, the Sheriff's Department turned the skeletal remains over to the Department of Sociology and Anthropology at Southern Oregon State College (now Southern Oregon University). Analysis of the human remains in 1995 and 1999 identified one female of an unknown age (Catalogue #11-425), one male between 20-23 years old (Catalogue #11-426), and one incomplete set of human remains of unknown sex and age (Catalogue Collection #2). No known individuals were identified. No associated funerary objects are present.

Site 35JA90 is a pre-contact village site with burial grounds located on Federal lands with a portion of the site located on private property. In 1979, Oregon State University (OSU) Department of Anthropology was contracted by the Rogue River National Forest to further investigate the site. The site was archeologically tested and recorded by archeologists Dr. David Brauner and Sandy Snyder. A Gunther-barbed projectile point and other projectile point types were noted at the site indicating an occupation date of approximately 1,500-150 years BP. The site is associated with the descendants of the Dakubetede (applegate athapascan) or Upland Takelma/Latgawa or Shasta peoples, based on artifacts and the site location.

A relationship of shared group identity can be reasonably traced between this identifiable earlier group of people and the Confederated Tribes of Siletz Indians of Oregon (previously listed as the Confederated Tribes of the Siletz Reservation) and the Confederated Tribes of the Grand Ronde Community of Oregon. In addition, according to final judgments of the Indian Claims Commission, the land from which the human remains were removed is within the aboriginally occupied lands of the Confederated Tribes of Siletz Indians of Oregon (previously listed as the Confederated Tribes of the Siletz Reservation) and the Confederated Tribes of the Grand Ronde Community of Oregon.

Determinations Made by the USDA, Forest Service, Rouge River-Siskiyou National Forest

Officials of the Rogue River-Siskiyou National Forest have determined that:

• Pursuant to 25 U.S.C. 3001(9), the human remains described in this notice represent the physical remains of three individuals of Native American ancestry.

• Pursuant to 25 U.S.C. 3001(2), there is a relationship of shared group identity that can be reasonably traced between the Native American human remains and the Confederated Tribes of Siletz Indians of Oregon (previously listed as the Confederated Tribes of the Siletz Reservation) and Confederated Tribes of the Grand Ronde Community of Oregon.

Additional Requestors and Disposition

Lineal descendants or representatives of any Indian Tribe or Native Hawaiian organization not identified in this notice that wish to request transfer of control of these human remains should submit a written request with information in support of the request to Robert MacWhorter, Forest Supervisor, Rogue River-Siskiyou National Forest, 3040 Biddle Road, Medford, OR 97501, telephone (541) 618-2030, email rmacwhorter@fs.fed.us, by October 23, 2017. After that date, if no additional requestors have come forward, transfer of control of the human remains to the Confederated Tribes of Siletz Indians of Oregon (previously listed as the Confederated Tribes of the Siletz Reservation) and Confederated Tribes of the Grand Ronde Community of Oregon may proceed.

The Rogue River-Siskiyou National Forest is responsible for notifying the Confederated Tribes of Siletz Indians of Oregon (previously listed as the Confederated Tribes of the Siletz Reservation); Confederated Tribes of the Grand Ronde Community of Oregon; and Quartz Valley Indian Community of the Quartz Valley Reservation of California that this notice has been published.

Dated: August 14, 2017.
Sarah Glass,
Acting Manager, National NAGPRA Program.

[FR Doc. 2017-20293 Filed 9-21-17; 8:45 am]

BILLING CODE 4312-52-P